DEPARTMENT OF ENERGY

Federal Energy Regulatory Commission

[FERC Docket No. PF08-9-000]

Ruby Pipeline, L.L.C.; Notice of Intent To Prepare an Environmental Impact Statement and Land and Resource Management Plan Amendment for the Proposed Ruby Pipeline Project, Request for Comments on Environmental Issues, and Notice of Public Scoping Meetings

September 26, 2008.

The staff of the Federal Energy Regulatory Commission (FERC or Commission) will prepare an environmental impact statement (EIS) that will discuss the environmental impacts of Ruby Pipeline, L.L.C.'s (Ruby) proposed Ruby Pipeline Project in Wyoming, Utah, Nevada, and Oregon. The project facilities would consist of about 677 miles of 42-inch-diameter natural gas pipeline, four new compressor stations, and related facilities as described below. The EIS will be used by the Commission in its decision-making process to determine if the project is in the public convenience and necessity.

This notice explains the scoping process that is being used to gather input from the public and interested agencies on the project. Your input will help determine the issues that need to be evaluated in the EIS. Please note that this scoping period will close on October 29, 2008.

Comments may be submitted in writing or verbally. Details on how to submit written comments are provided in the “Public Participation” section of this notice. In lieu of or in addition to sending written comments, you are invited to attend any of the four public scoping meetings to verbally comment on the project. The dates and locations of the meetings are listed below and will be posted on the Commission's calendar at http://www.ferc.gov/EventCalendar/EventsList.aspx. All meetings are scheduled to begin at 7 p.m. in the time zone in which they are being held.

October 14, 2008—Montpelier, Idaho, Oregon-California Trail Center, 320 N 4th Street, (208) 847-3800.

October 15, 2008—Hyrum, Utah, Civic Center, 83 W Main Street, (435) 245-6033.

October 16, 2008—Brigham City, Utah, Brigham City Senior Center, 24 N 300 W, (435) 723-3303.

October 22, 2008—Lakeview, Oregon, Elks Lodge, 323 N. F Street, (541) 947-2258.

If a significant number of people are interested in commenting at the meetings, each commenter will be limited to a three to five minute comment period to ensure that all people wishing to comment have the opportunity in the time allotted for the meeting. If time limits on comments are implemented, they will be strictly enforced.

The Ruby Pipeline Project is currently in the “Pre-filing” stage and at this time a formal application has not been filed with the Commission. For this proposal, the Commission is initiating its National Environmental Policy Act (NEPA) review prior to receiving the application. The Commission's Pre-filing Process allows interested stakeholders to become involved early in the project planning with the intent of identifying and resolving issues before a formal application is filed with the FERC.¹ A docket number (PF08-9-000) has been established to place information filed by Ruby and related documents issued or received by the Commission into the public record. Once a formal application is filed with the FERC, a new docket number will be established.

¹ This notice announces the second scoping period the Commission has opened for the Ruby Pipeline Project. See page 5 for details.

The FERC is the lead federal agency for the preparation of the EIS. The U.S. Bureau of Land Management (BLM) is participating as a cooperating agency in the preparation of the EIS because the project would cross federally administered lands in Wyoming, Utah, Nevada, and Oregon. The U.S. Forest Service (USFS) also is participating as a cooperating agency because the project would cross the Wasatch-Cache and Fremont-Winema National Forests in Utah and Oregon, respectively.

As a cooperating agency, the BLM intends to adopt the EIS per Title 40 of the Code of Federal Regulations, Part 1506.3, to meet its NEPA responsibilities for Ruby's application for a Right-of-Way Grant and Temporary Use Permit for crossing federally administered lands, including the Wasatch-Cache and Fremont-Winema National Forests. The concurrence or non-concurrence of the USFS would be considered in the BLM's decision as well as impacts on resources and programs and the project's conformance with land use plans.

As proposed, the Ruby Pipeline Project does not follow a designated utility corridor through the Wasatch-Cache National Forest; therefore, if Ruby's proposed route were authorized, the Wasatch-Cache National Forest Revised Land and Resource Management Plan (2003) (Forest Plan) would need to be amended. The USFS will use the EIS to consider amending the Forest Plan to allow pipeline construction outside of designated utility corridors.

With this notice, we ² are asking other federal, state, and local agencies with jurisdiction and/or special expertise with respect to environmental issues in the project area to formally cooperate with us in the preparation of the EIS. These agencies may choose to participate once they have evaluated Ruby's proposal relative to their responsibilities. Agencies that would like to request cooperating status should follow the instructions for filing written comments described later in this notice and describe the extent to which they would like to be involved as a cooperating agency. We also encourage government representatives to notify their constituents of this project and encourage them to comment on their areas of concern.

² “We,” “us,” and “our” refer to the environmental staff of the Commission's Office of Energy Projects.

If you are a landowner receiving this notice, you may be contacted by a pipeline company representative about the acquisition of an easement to construct, operate, and maintain the proposed facilities. If so, Ruby and the affected landowners should seek to negotiate a mutually acceptable agreement. However, if the project is approved by the Commission, that approval conveys with it the right of eminent domain for securing easements for the facilities. Therefore, if easement negotiations fail to produce an agreement, Ruby could initiate condemnation proceedings in accordance with state law.

This notice is being sent to potentially affected landowners crossed by and adjacent to the project route; landowners within 0.5 mile of proposed compressor station sites; federal, state, and local government agencies; elected officials; environmental and public interest groups; Native American tribes; local libraries and newspapers; and other interested parties.

This notice is also being sent to landowners within 0.5 mile of Ruby's currently planned pipeline route and 0.5 mile of an alternative route previously considered by Ruby. Both routes are shown on the map in appendix 1. We included these landowners on our original mailing list and scoping effort for the project because the initial route location proposed by Ruby was very general and had potential to directly affect a wider range of landowners as the route became more refined. Thus, some recipients of this notice may not be directly affected by the Ruby Pipeline Project. Although we have retained these landowners for this mailing, please note that recipients of this notice who do not comment on the proposed project and want to remain on the list for future mailings must return the Mailing List Retention Form (see the section “Environmental Mailing List” on page 9 and also appendix 2 for details on how to remain on the mailing list).

To assist potentially affected landowners, a fact sheet prepared by the FERC entitled “An Interstate Natural Gas Facility On My Land? What Do I Need To Know?” addresses a number of typically asked questions, including the potential use of eminent domain and how to participate in the Commission's proceedings. It is available for viewing on the FERC Internet Web site (http://www.ferc.gov).

Summary of the Proposed Project

Ruby is proposing to construct a new pipeline system to transport natural gas from the Rocky Mountain region to the northwestern United States. Specifically, Ruby is proposing to construct:

• About 674 miles of 42-inch-diameter pipeline from the Opal Hub in Lincoln County, Wyoming to the Malin Market Center in Klamath County, Oregon;

• About 3 miles of 42-inch-diameter lateral ³ pipeline in Klamath County, Oregon;

³ A lateral is a short pipeline that takes natural gas from the main pipeline system to a customer, such as a local distribution company or another natural gas pipeline system.

• 4 new compressor stations;

• 4 measurement stations; ⁴

⁴ The 4 measurement stations would house a total of 10 receipt and/or delivery points.

• 42 mainline block valves; and

• 14 pig ⁵ launcher and 13 pig receiver facilities.

⁵ A pipeline “pig” is a device designed to internally clean or inspect the pipeline. A pig launcher/receiver is an aboveground facility where pigs are inserted into or retrieved from the pipeline.

A map depicting the general location of project facilities is included as appendix 1.⁶ Ruby originally considered a northern route on the eastern end of the pipeline as illustrated on the general location map. Based on additional study and agency consultations, Ruby no longer prefers the northern route. We are, however, including it in our evaluation as a possible alternative along with other possible alternatives.

⁶ Appendix 1 (General Project Map) and appendix 2 (Mailing List Retention Form) are not being printed in the Federal Register. Copies are available on the Commission's Internet Web site (http://www.ferc.gov) at the “eLibrary” link or from the Commission's Public Reference Room at (202) 502-8371. For instructions on connecting to eLibrary, refer to the “Availability of Additional Information” section at the end of this notice. The General Project Map and Mailing List Retention Form were sent to all those receiving this notice in the mail.

The project, if completed, would have the capacity for transporting approximately 1.3 to 1.5 billion cubic feet of natural gas per day. Ruby anticipates filing its formal application with the FERC in January 2009. Ruby is proposing to start construction of the project in the first or second quarter of 2010, with the goal of placing the proposed pipeline in service in the first quarter of 2011.

Land Requirements for Construction

Ruby is proposing to use a nominal 115-foot-wide construction right-of-way for the project. Additional work areas would be required where the pipeline crosses certain features (e.g., waterbodies, wetlands, steep slopes, roads, and railroads); for staging areas, pipe yards, and contractor's yards; and for widening certain roads for project access.

Based on preliminary information, we estimate that construction of the Ruby Pipeline Project would disturb about 12,000 acres of land. Of the 12,000 acres, about 4,300 acres would be retained after construction as a 50-foot-wide permanent right-of-way and as aboveground facility sites. All temporary work areas would be restored and allowed to revert to former use after construction.

The EIS Process

NEPA requires the Commission to take into account the environmental impacts that could result from an action whenever it considers the issuance of a Certificate of Public Convenience and Necessity under Section 7 of the Natural Gas Act. NEPA also requires us to identify and address concerns the public has about proposals. This is the “scoping” process referred to earlier. The main goal of the scoping process is to focus the analysis in the EIS on important environmental issues and reasonable alternatives. All comments received during a scoping period are considered in the preparation of an EIS.

As a part of the Commission's Pre-filing Process, FERC and cooperating agency staff have already started to meet with Ruby, jurisdictional agencies, and other interested stakeholders to discuss the project and identify issues/impacts and concerns. FERC and BLM staff participated in eight public open house meetings hosted by Ruby in February and March 2008. In addition, on March 28, 2008, the FERC issued a Notice of Pre-Filing Environmental Review for the Ruby Pipeline Project, Request for Comments on Environmental Issues, and Notice of Public Scoping Meetings. Issuance of that notice opened an initial time period for providing comments on the project and announced the six public scoping meetings held in April 2008.

By this notice, we are formally announcing the preparation of the EIS and are requesting additional agency and public comments to help focus the analysis in the EIS on the potentially significant environmental issues/impacts related to the project. Our independent analysis of the issues will be included in a draft EIS. The draft EIS will be mailed to federal, state, and local government agencies; elected officials; environmental and public interest groups; Native American tribes; affected landowners; commentors; other interested parties; local libraries and newspapers; and the FERC's official service list for this proceeding. A 45-day comment period will be allotted for public review of the draft EIS. We will consider all comments on the draft EIS and revise the document, as necessary, before issuing a final EIS. We will consider all comments on the final EIS before we make our recommendations to the Commission. To ensure that your comments are considered, please follow the instructions in the “Public Participation” section of this notice.

Currently Identified Environmental Issues

The EIS will discuss impacts that could occur as a result of construction and operation of the Ruby Pipeline Project. We have already identified a number of issues and alternatives that we think deserve attention based on the initial public scoping period and our review of the information provided by Ruby. This preliminary list of potential issues and alternatives may be changed based on your comments and our analysis.

Geology, Soils, and Reclamation:

• Impacts on current and future mining operations, including gold mines near Elko and Winnemucca, Nevada.

• Potential for seismic activity to affect the integrity of the pipeline.

• Potential for reduced soil fertility due to topsoil and subsoil mixing.

• Construction limitations and erosion potential in steep terrain.

• Potential for problematic reclamation due to poor soils, arid conditions, and potential grazing after restoration has occurred.

• Potential for invasion or spread of undesirable vegetation and noxious weeds during and after construction.

Water Resources and Wetlands:

• Potential effects on groundwater resources and springs.

• Effects of construction on waterbodies and agricultural canals.

• Impacts on wetlands, including wetlands in the Wetland Reserve Program.

Fish, Wildlife, Vegetation, and Sensitive Species:

• Effects of project construction and timing on fish and wildlife and their habitat, including state-listed threatened and endangered species, migratory birds, and big game species.

• Effects of water depletion from hydrostatic test water withdrawals, including effects on federally listed or proposed threatened or endangered species.

Cultural Resources:

• Effect on known and undiscovered cultural resources.

• Native American and tribal concerns, including traditional cultural properties.

Land Use, Recreation and Special Interest Areas, and Visual Resources:

• Potential for impacts on Utah-designated Agricultural Protection Areas.

• Impacts on grazing and livestock as a result of cutting fences and having an open trench in range land.

• Impacts on farming as a result of reduced soil fertility (top/subsoil mixing), disrupted irrigation and drainage patterns.

• Impacts on residences, including proximity of facilities to existing structures and conflicts with planned and future development.

• Impacts on existing or proposed roadless and wilderness areas.

• Impacts on existing conservation easements and potential for future preclusion from conservation easements.

• Impacts on recreation (e.g., fishing, hunting, boating, camping, and hiking).

Socioeconomics:

• Effects of construction workforce demands on public services and temporary housing.

Air Quality and Noise:

• Effects on local air quality and noise environment from construction and operation of the proposed facilities.

Reliability and Safety:

• Potential hazards to natural gas pipelines from wildfires, and potential for construction to start a wildfire.

• Potential for third-party damage or inadequate maintenance of the pipeline to cause a pipeline incident.

• Assessment of security associated with operation of natural gas facilities.

Alternatives:

• Use of alternative systems to transport natural gas, such as the LNG terminals proposed in Oregon.

• Evaluation of the northern route alternative.

• Use of existing corridors (e.g., Interstate 80, Questar pipelines, petroleum pipelines south of Utah State Highway 30, the West Wide Energy Corridor).

• Minor variations to avoid specific features or resources.

Cumulative Impacts:

• Impacts of the project when combined with other actions in the same region, particularly the multiple LNG terminals and natural gas pipeline projects proposed in Oregon.

• Potential for cumulative impacts from siting multiple utilities within the same corridor.

• Potential for the new corridor to attract future utility lines and result in cumulative impacts.

We will make recommendations in the EIS on how to lessen or avoid impacts on the various resource areas and evaluate possible alternatives to the proposed project or portions of the project.

Public Participation

You can make a difference by providing us with your specific comments or concerns about Ruby's planned project. Your comments should focus on the potential environmental effects, reasonable alternatives, and measures to avoid or lessen environmental impacts. The more specific your comments, the more useful they will be. To ensure that your comments are timely and properly recorded, please send your comments so that they will be received in Washington, DC on or before October 29, 2008.

For your convenience, there are three methods which you can use to submit written comments to the Commission. In all instances please reference the project docket number (PF08-9-000) with your submission. The Commission strongly encourages electronic filing of comments and has dedicated eFiling staff available to assist you at 202-502-8258 or efiling@ferc.gov.

(1) You may file your comments electronically by using the Quick Comment feature, which is located on the Commission's Internet Web site at http://www.ferc.gov under the link to Documents and Filings. A Quick Comment is an easy method for interested persons to submit text-only comments on a project.

(2) You may file your comments electronically by using the eFiling feature, which is located on the Commission's Internet Web site at http://www.ferc.gov under the link to Documents and Filings. eFiling involves preparing your submission in the same manner as you would if filing on paper and then saving the file on your computer's hard drive. You will attach that file as your submission. New eFiling users must first create an account by clicking on “Sign up” or “eRegister.” You will be asked to select the type of filing you are making. A comment on a particular project is considered a “Comment on Filing.”

(3) You may file your comments by mail by sending an original and two copies of your letter to: Kimberly D. Bose, Secretary, Federal Energy Regulatory Commission, 888 First Street, NE.; Room 1A, Washington, DC 20426.

Label one copy of your comments for the attention of Gas 1; DG2E; PJ-11.1.

The public scoping meetings referenced on page 1 of this notice are designed to provide another opportunity to offer comments on the Ruby Pipeline Project. Interested groups and individuals are encouraged to attend these meetings and to present comments on the environmental issues they believe should be addressed in the EIS. Transcripts of the meetings will be made so that your comments will be accurately recorded. In addition, we have asked representatives from Ruby to be available with project location maps and other technical information to answer landowner concerns after each meeting.

Once Ruby formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time. You must wait until a formal application is filed with the Commission. You do not need intervenor status to have your environmental comments considered.

Environmental Mailing List

If you received this notice, you are currently on the environmental mailing list for this project. If you do not want to send comments at this time and have not previously sent comments to us on this project or presented comments at one of the public scoping meetings, but still want to remain on our mailing list, please return the Mailing List Retention Form (appendix 2). If you do not submit or present comments or if you do not return the Mailing List Retention Form, you will be removed from the Commission's environmental mailing list for this project.

Availability of Additional Information

Additional information about the Project is available from the FERC's Office of External Affairs at 1-866-208-FERC (3372) or on the FERC Internet Web site (http://www.ferc.gov) using the eLibrary link. Click on the eLibrary link, click on “General Search,” and enter the docket number excluding the last three digits in the Docket Number field (i.e., PF08-9). Be sure you have selected an appropriate date range. For assistance, please contact FERC Online Support at FERCOnlineSupport@ferc.gov or toll free at 1-866-208-3676, or for TTY, contact (202) 502-8659. The eLibrary link on the FERC Internet Web site also provides access to the text of formal documents issued by the Commission, such as orders, notices, and rulemakings.

In addition, the FERC offers a free service called eSubscription that allows you to keep track of all formal issuances and submittals in specific dockets. This can reduce the amount of time you spend researching proceedings by automatically providing you with notification of these filings, document summaries, and direct links to the documents. To register for this service, go to the eSubscription link on the FERC Internet Web site (http://www.ferc.gov/docs-filing/esubscription.asp).

Information concerning the involvement of the BLM in the EIS process may be obtained from Mark Mackiewicz, PMP, National Project Manager, at (435) 636-3616. Information concerning the involvement of the USFS may be obtained from Catherine Callaghan at the Fremont-Winema National Forest at (541) 947-2151, and David Ream (801) 236-3400 at the Wasatch-Cache National Forest.

Finally, Ruby has established an Internet Web site for its project at http://www.rubypipeline.com. The Web site includes a description of the project as well as project maps and links to related documents. Information can also be obtained by calling Ruby directly at 1-877-598-5263 (toll free) or 1-719-520-4450.

Kimberly D. Bose,
Secretary.

[FR Doc. E8-23216 Filed 10-1-08; 8:45 am]

BILLING CODE 6717-01-P